DEPARTMENT OF COMMERCE

National Oceanic And Atmospheric Administration

[Docket No. 150114039-5039-01]

RIN 0648-XD719

Higher Initial Maximum Uniform Allowance Rate; Uniform Allowances

AGENCY: National Marine Fisheries Service (NMFS), National Oceanic and Atmospheric Administration (NOAA), Commerce.

ACTION: Notice; request for comments.

SUMMARY: The NMFS Office of Law Enforcement (OLE) is planning to establish a higher initial maximum uniform allowance to procure and issue uniform items for uniformed enforcement officers (EOs). OLE has changed its uniform policy, now requiring five classes of uniforms. Until now, EOs were only required to have two classes of uniforms. This change affects 30 current EOs, 25 planned new EOs in 2015, and any future EOs.

Current OPM regulations allow an agency to establish one or more initial maximum uniform allowance rates greater than the government-wide maximum uniform allowance rate.

DATES: NMFS must receive comments on or before March 2, 2015.

ADDRESSES: You may submit comments, identified by RIN 0648-XD719 and Uniform Allowances, by either of the following methods:

Email: uniform.allowances@noaa.gov.

Mail: NMFS Office of Enforcement, National Training Coordinator, 1315 East West Highway, Suite 3301, Silver Spring, MD 20910.

FOR FURTHER INFORMATION CONTACT: Everett Baxter, 301-427-8272.

SUPPLEMENTARY INFORMATION: NMFS plans to implement a higher initial maximum uniform allowance to procure and furnish uniform items for its EOs. The current $800.00 annual limit is inadequate to maintain the uniform standards and professional image expected of NMFS EOs under its new uniform standards. OLE now has a new uniform policy requiring five classes of uniforms. In the past, EOs only had two classes of uniforms. This increase in uniform classes requires an increase in the initial maximum uniform allowance for EOs, from $800 to $2,000.00.

This implementation is in accordance with 5 CFR 591.104, which states that an agency may establish one or more initial maximum uniform allowance rate greater than the government-wide maximum uniform allowance rate established by the Office of Personnel Management under 5 CFR 591.103. Under 5 CFR 591.104, to establish a new rate, agencies must “publish in the Federal Register and request comment on a notice setting out: (1) A description and justification of the circumstances requiring a higher initial maximum uniform allowance rate; (2) An estimate of the number of employees affected; (3) The specific items required for the basic uniform and the average total uniform cost for the affected employees; (4) The amount of the proposed higher initial maximum uniform allowance rate to be paid during the year the employee first becomes subject to the uniform requirement; (5) The proposed effective date of the higher initial maximum uniform allowance rate; and, (6) The intent of the agency (if any) to divide the cost of a minimum basic uniform and continue to make higher initial maximum basic uniform allowance payments in the year following the year the employee first becomes subject to the uniform requirement.”

As noted above, a new rate is justified because OLE's current uniform policy requires EOs to have five classes of uniforms, versus the two classes of uniforms required under the previous policy. This change in NMFS' initial maximum uniform allowance affects 30 current EOs, 25 planned new EOs in 2015, and any future EOs. The new NMFS' required EO uniforms include the following items or similar items: Gore-Tex gloves; 6-pocket pants; long sleeve uniform shirts; short sleeve uniform shirts; polo shirts; sweaters; turtlenecks; cold weather duty jackets; summer duty shirts; ceremonial jackets; ceremonial hats, straps and cords; utility shorts; ties; dress shoes; leather boots; dress pants; shoulder patches, and cloth badges. The average total initial uniform cost for these listed items is $2,000.00. Based on these current costs, NMFS is planning to increase the initial maximum uniform allowance for its EOs to $2,000.00. This increased initial maximum uniform allowance is applicable to existing EOs during the first year of the new NMFS uniform policy, and for EOs hired in 2015. In subsequent years, this initial maximum uniform allowance will be applied to each new EO as he or she becomes subject to the uniform requirements. Subsequent annual uniform allowances will be the maximum allowed by 5 CFR 591.103. Currently, approximately 55 EOs will be effected by this increased initial maximum uniform allowance; 30 current EOs and 25 planned new hire EOs. The effective date of this higher initial maximum uniform allowance rate is April 1, 2015.

Authority: 5 U.S.C. 5903; E.O. 12748, 56 FR 4521, 3 CFR 1991 Comp., p. 316.

Dated: January 27, 2015.
Matthew G. Brandt,
Acting Director, Office of Law Enforcement, National Marine Fisheries Service.

[FR Doc. 2015-01810 Filed 1-29-15; 8:45 am]

BILLING CODE 3510-22-P